DEPARTMENT OF DEFENSE

Office of the Secretary

Defense Health Board (DHB) Meeting

AGENCY: Department of Defense.

ACTION: Notice of meeting.

SUMMARY: Pursuant to the Federal Advisory Committee Act of 1972 (5 U.S.C., Appendix as amended), the Sunshine in the Government Act of 1976 ( 5 U.S.C. 552b, as amended), and 41 CFR 102-3.150, and in accordance with section 10(a)(2) of Public Law, the following meeting is announced:

Name of Committee: Defense Health Board (DHB).

Dates: September 19 and 20, 2007.

Times: 8 a.m.-11:30 a.m. (Open Session). 12:30 p.m.-4:45 p.m. (Open Session).

Place of Meeting: Holiday Inn Riverwalk, 217 N. St. Mary's Street, San Antonio, TX 78205.

Purpose of the Meeting: The purpose of the meeting is to address and deliberate pending and new Board issues and provide briefings for Board members on topics related to ongoing Board business.

Agenda: The Board will deliberate Pandemic Flu preparedness and the subcommittee recommendations, recruit Chlamydia screening efficacy, Army Action Plan to address wounded warriors' concerns, and discuss the DOD disability evaluation system, to include an overview and plans for reengineering the system. The status of the DOD response plan for Traumatic Brain Injury and Post Traumatic Stress Disorder will be discussed. The Board will also receive an update from the Task Force on the Future of Military Health Care.

The Board will conduct an administrative session on September 18, 2007, in the same location. The administrative session is closed to the public.

Pursuant to 5 U.S.C. 552b, as amended, and 41 CFR 102-3.140 through 102-3.165 and subject to availability of space, the Defense Health Board meeting from 9 a.m. to 4 p.m. on May 3, 2007 is open to the public. Any member of the public wishing to provide input to the Defense Health Board should submit a written statement in accordance with 41 CFR 102-3.140(C) and section 10(a)(3) of the Federal Advisory Committee Act, and the procedures described in this notice. Written statement should be not longer than two type-written pages and must address the following detail: The issue, discussion, and a recommended course of action. Supporting documentation may also be included as needed to establish the appropriate historical context and to provide any necessary background information.

Individuals submitting a written statement may submit their statement to the Designated Federal Officer at the address detailed below at any point. However, if the written statement is not received at least 10 calendar days prior to the meeting, which is subject to this notice, then it may not be provided to or considered by the Defense Health Board until the next open meeting.

The Designated Federal Officer will review all timely submissions with the Defense Health Board Chairperson, and ensure they are provided to members of the Defense Health Board before the meeting that is subject to this notice. After reviewing the written comments, the Chairperson and the Designated Federal Officer may choose to invite the submitter of the comments to orally present their issue during an open portion of this meting or at a future meeting.

The Designated Federal Officer, in consultation with the Defense Health Board Chairperson, may, if desired, allot a specific amount of time for members of the public to present their issues for review and discussion by the Defense Health Board.

FOR FURTHER INFORMATION CONTACT: Colonel Roger L. Gibson, Executive Secretary, Defense Health Board, Five Skyline Place, 5111 Leesburg Pike, Room 810, Falls Church, Virginia 22041-3206, (703) 681-3279, Ext. 123, Fax: (703) 681-3321, (roger.gibson@ha.osd.mil). Additional information, agenda updates, and meeting registration are available online at the Defense Health Board Web site, http://www.ha.osd.mil/dhb. The public is encouraged to register for the meeting. Written statements may be mailed to the above address, e-mailed to dhb@ha.osd.mil or faxed to (703) 681-3321.

Dated: August 3, 2007.
L.M. Bynum,
Alternate OSD Federal Register Liaison Officer, Department of Defense.

[FR Doc. 07-3881 Filed 8-6-07; 11:39 am]

BILLING CODE 5001-06-M